ELECTION ASSISTANCE COMMISSION

Sunshine Act Meetings

AGENCY: Election Assistance Commission.

ACTION: Sunshine Act Notice; notice of public meeting agenda.

SUMMARY: Public Meeting: U.S. Election Assistance Commission 2025 Data Summit: Election Administration by the Numbers.

DATES: Wednesday, July 9, 9:00 a.m.-4:30 p.m. Eastern.

ADDRESSES: The meeting will be held in person at the Massachusetts Institute of Technology, Samberg Conference Center, 50 Memorial Drive, Cambridge, MA 02142. It will also be live streamed on the U.S. Election Assistance Commission YouTube Channel: https://www.youtube.com/channel/UCpN6i0g2rlF4ITWhwvBwwZw.

FOR FURTHER INFORMATION CONTACT: Kristen Muthig, Telephone: (202) 897-9285, Email: kmuthig@eac.gov.

SUPPLEMENTARY INFORMATION:

Purpose: In accordance with the Government in the Sunshine Act (Sunshine Act), Public Law 94-409, as amended (5 U.S.C. 552b), the U.S. Election Assistance Commission (EAC) will conduct an open meeting with the Massachusetts Institute of Technology on research and topics related to election administration.

Agenda: During the meeting, election officials, academics, and other key stakeholders will participate in panel discussions on election administration and related innovative and groundbreaking data and research. Topics will include the results of the 2024 Election Administration and Voting Survey (EAVS), election funding, voter list maintenance, workforce development, and more.

The full agenda will be posted in advance on the EAC website: https://www.eac.gov.

Background: The EAVS helps the EAC meet its mandate under the Help America Vote Act (HAVA) to serve as a national clearinghouse and resource for the compilation of information and to review procedures with respect to the administration of federal elections. The EAVS sections related to voter registration and the Uniformed and Overseas Citizens Absentee Voting Act (UOCAVA) allow states to satisfy their data reporting requirements established, respectively, by the National Voter Registration Act (NVRA) and UOCAVA. The EAVS also helps the Federal Voting Assistance Program (FVAP) fulfill its obligations under UOCAVA to reduce obstacles to ensure military and overseas voting success by collecting data about how UOCAVA voters participate in elections.

This meeting will provide information on current and emerging topics in elections to help inform stakeholders as well as the general public and members of the media.

Status: This meeting will be open to the public.

Seton Parsons,
Associate Counsel, U.S. Election Assistance Commission.

[FR Doc. 2025-10980 Filed 6-11-25; 4:15 pm]

BILLING CODE 4810-71-P